DEPARTMENT OF THE TREASURY

Bureau of Alcohol, Tobacco and Firearms

27 CFR Parts 40, 45, 70, and 295

[T.D. ATF—469]

RIN 1512-AC42

Removal of Tobacco Products and Cigarette Papers and Tubes, Without Payment of Tax for Use of the United States; Recodification of Regulations (2000R-296P)

AGENCY: Bureau of Alcohol, Tobacco and Firearms (ATF), Department of the Treasury.

ACTION: Final rule (Treasury decision).

SUMMARY: The Bureau of Alcohol, Tobacco and Firearms (ATF) is recodifying the regulations in part 295—Removal of Tobacco Products and Cigarette Papers and Tubes, Without Payment of Tax for Use of the United States, title 27 of the Code of Federal Regulations (CFR). The purpose of this recodification is to reissue the regulations in 27 CFR part 295 as 27 CFR part 45. This change improves the organization of title 27 CFR.

DATES: This rule is effective on November 13, 2001.

FOR FURTHER INFORMATION CONTACT: Lisa M. Gesser, Regulations Division, Bureau of Alcohol, Tobacco and Firearms, 650 Massachusetts Avenue NW., Washington, DC 20226, (202-927-9347) or e-mail at LMGesser@atfhq.atf.treas.gov.

SUPPLEMENTARY INFORMATION:

Background

As a part of continuing efforts to reorganize the part numbering system of title 27 CFR, ATF is removing part 295 of title 27 CFR, in its entirety, and is recodifying the regulations as 27 CFR part 45. This change improves the organization of title 27 CFR.

In addition to the recodification, ATF is making a technical amendment to the newly redesignated part 45 that revises the Office of Management and Budget control number.

Derivation Table for Part 45
The requirements of: | Are derived from:
Subpart A
Sec.: | Sec.: | 45.1 | 295.1
Subpart B
45.11 | 295.11
Subpart C
45.21 | 295.21
45.22 | 295.22
45.23 | 295.23
45.24 | 295.24
45.25 | 295.25
Subpart D
45.31 | 295.31
45.32 | 295.32
45.33 | 295.33
45.34 | 295.34
45.35 | 295.35
45.36 | 295.36
45.37 | 295.37
Subpart E
45.41 | 295.41
45.42 | 295.42
45.43 | 295.43
45.44 | 295.44
45.45 | 295.45
45.45a | 295.45a
45.45b | 295.45b
45.45c | 295.45c
45.46 | 295.46
Subpart F
45.51 | 295.51

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply. We sent a copy of this final rule to the Chief Counsel for Advocacy of the Small Business Administration in accordance with 26 U.S.C. 7805(f). Assistant Chief Counsel commented that “these amendments are merely technical in nature and will not have a significant impact on a substantial number of small businesses.”

Executive Order 12866

This final rule is not a significant regulatory action as defined in Executive Order 12866. Accordingly, this final rule is not subject to the analysis required by this Executive Order.

Administrative Procedure Act

Because this final rule merely makes technical amendments and conforming changes to improve the clarity of the regulations, it is unnecessary to issue this final rule with notice and public procedure under 5 U.S.C. 553(b). Similarly, because of the nature of this final rule, good cause is found that it is unnecessary to subject this final rule to the effective date limitation of 5 U.S.C. 553(d).

Drafting Information

The principal author of this document is Lisa M. Gesser, Regulations Division, Bureau of Alcohol, Tobacco and Firearms.

List of Subjects

27 CFR Part 40

Cigars and cigarettes, Claims, Electronic funds transfers, Excise taxes, Imports, Labeling, Packaging and containers, Reporting and recordkeeping requirements, Surety bonds, Tobacco.

27 CFR Part 45

Cigars and cigarettes, Excise taxes, Labeling, Packaging and containers, Reporting and recordkeeping requirements, Tobacco.

27 CFR Part 70

Administrative practice and procedure, Claims, Excise taxes, Freedom of information, Law enforcement, Penalties, Reporting and recordkeeping requirements, Surety bonds.

27 CFR Part 295

Cigars and cigarettes, Excise taxes, Labeling, Packaging and containers, Reporting and recordkeeping requirements, Tobacco.

Authority and Issuance

ATF is amending title 27of the Code of Federal Regulations as follows:

PART 40—MANUFACTURE OF TOBACCO PRODUCTS AND CIGARETTE PAPERS AND TUBES

Paragraph 1. The authority citation for 27 CFR part 40 continues to read as follows:

Authority: 26 U.S.C. 5142, 5143, 5146, 5701, 5703-5705, 5711-5713, 5721-5723, 5731, 5741, 5751, 5753, 5761-5763, 6061, 6065, 6109, 6151, 6301, 6302, 6311, 6313, 6402, 6404, 6423, 6676, 6806, 7011, 7212, 7325, 7342, 7502, 7503, 7606, 7805; 31 U.S.C. 9301, 9303, 9304, 9306.

§§ 40.44, 40.234, 40.384 and 40.453 [Amended]

Par. 2. Remove the reference to “part 295” and add in its place a reference to “part 45” in the following places:

a. Section 40.44;

b. Section 40.234;

c. Section 40.384; and

d. Section 40.453.

PART 70—PROCEDURE AND ADMINISTRATION

Par. 3. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.431 [Amended]

Par. 4. Amend paragraph (b)(6) in § 70.431, by removing the reference to “Part 295” and adding in its place a reference to “Part 45”.

PART 295—REMOVAL OF TOBACCO PRODUCTS AND CIGARETTE PAPERS AND TUBES, WITHOUT PAYMENT OF TAX FOR USE OF THE UNITED STATES

Par. 5. The authority citation for 27 CFR part 295 continues to read as follows:

Authority: 26 U.S.C. 5703, 5704, 5705, 5723, 5741, 5751, 5762, 5763, 6313, 7212, 7342, 7606, 7805, 44 U.S.C. 3504(h).

Part 295 [Redesignated as 27 CFR Part 45]

Par. 6. Transfer 27 CFR part 295 from subchapter M to subchapter B and redesignate as 27 CFR part 45.

PART 45—REMOVAL OF TOBACCO PRODUCTS AND CIGARETTE PAPERS AND TUBES, WITHOUT PAYMENT OF TAX FOR USE OF THE UNITED STATES

Par. 7. The authority citation for the newly redesignated 27 CFR part 45 continues to read as follows:

Authority: 26 U.S.C. 5703, 5704, 5705, 5723, 5741, 5751, 5762, 5763, 6313, 7212, 7342, 7606, 7805, 44 U.S.C. 3504(h).

Editorial Note [Amended]

Par. 7a. Amend the “Editorial Note” following the table of contents by removing the reference to “part 295” and adding in its place a reference to “part 45”.

§ 45.34 [Amended]

Par. 8. Amend § 45.34 by removing the reference to “§ 295.36” and adding in its place a reference to “§ 45.36”.

§ 45.43 [Amended]

Par. 9. Amend § 45.43 by removing the Office of Management and Budget's control number “1512-0488” and adding, in its place, “1512-0502.”

Signed: June 22, 2001.
Bradley A. Buckles,
Director.
Approved: August 23, 2001.
Timothy E. Skud,
Acting Deputy Assistant Secretary (Regulatory, Tariff and Trade Enforcement).

[FR Doc. 01-28257 Filed 11-9-01; 8:45 am]

BILLING CODE 4810-31-P